DEPARTMENT OF TRANSPORTATION

Federal Aviation Administration

Notice of Intent To Rule on Request To Release Airport Property at the Victoria Regional Airport at Victoria, Texas

AGENCY: Federal Aviation Administration (FAA), DOT.

ACTION: Notice of Request to Release Airport Property.

SUMMARY: The FAA proposes to rule and invite public comment on the release of land at the Victoria Regional Airport under the provisions of Section 125 of the Wendell H. Ford Aviation Investment Reform Act for the 21st Century (AIR 21).

DATES: Comments must be received on or before May 12, 2014.

ADDRESSES: Comments on this application may be mailed or delivered to the FAA at the following address: Mr. Ed Agnew, Manager, Federal Aviation Administration, Southwest Region, Airports Division, Texas Airports Development Office, ASW-650, Fort Worth, Texas 76137.

In addition, one copy of any comments submitted to the FAA must be mailed or delivered to the Mr. Jason Milewski, City Manager, at the following address: 609 Foster Field Drive, Suite F, Victoria, Texas 77904.

FOR FURTHER INFORMATION CONTACT: Mr. Anthony Mekhail, Program Manager, Federal Aviation Administration, Texas Airports Development Office, ASW-650, 2601 Meacham Boulevard, Fort Worth, Texas 76137, Telephone: (817) 222-5663, email:Anthony.Mekhail@faa.gov, fax: (817) 222-5989.

The request to release property may be reviewed in person at this same location.

SUPPLEMENTARY INFORMATION: The FAA invites public comment on the request to release property at the Victoria Regional Airport under the provisions of the AIR 21.

The following is a brief overview of the request: The City of Victoria requests the release of 1 acre of non-aeronautical airport property. The land was acquired by Victoria County on March 9, 1973. The property to be released will be sold to and revenues shall be used for the operation and maintenance at the airport. Any person may inspect the request in person at the FAA office listed above under FOR FURTHER INFORMATION CONTACT.

In addition, any person may, upon request, inspect the application, notice and other documents relevant to the application in person at the Victoria Regional Airport, telephone number (361) 575-4558.

Issued in Fort Worth, Texas on March 28, 2014.
Kelvin Solco,
Manager, Airports Division.

[FR Doc. 2014-08362 Filed 4-11-14; 8:45 am]

BILLING CODE 4910-13-P